ENVIRONMENTAL PROTECTION AGENCY

[FRL-8009-1]

Safe Drinking Water Act Determination; Underground Injection Control Program, Determination of Indian Country Status for Purposes of Underground Injection Control Program Permitting

AGENCY: Environmental Protection Agency (EPA).

ACTION: Notice of comment period extension.

SUMMARY: On November 2, 2005, the Environmental Protection Agency (EPA) published a notice of prospective determination of the Indian country status of approximately 160 acres of land located in the southeast portion of Section 8, Township 16N, Range 16W, in the State of New Mexico (70 FR 66402). That notice requests public input regarding whether the Section 8 land is part of a dependent Indian community under 18 U.S.C. 1151(b) and, thus, considered to be “Indian country.” This determination is necessary in order to establish whether EPA or the New Mexico Environment Department is the appropriate agency to issue a particular underground injection control permit under the Safe Drinking Water Act.

EPA sought responses to the notice by January 3, 2006. In response to requests from the public seeking additional time to fully analyze the issues, gather requested information, and prepare comments, we are extending the period for submitting comments and information, as provided in the notice, to January 31, 2006.

DATES: Comments and information on this matter, and any request that a public hearing be held, must be received by January 31, 2006. EPA will consider all timely comments and information as described in the original November 2, 2005 notice.

ADDRESSES: Written comments and information should be submitted to David Albright, Ground Water Office Manager, at U.S. Environmental Protection Agency, Region 9, 75 Hawthorne Street, Mail Code: WTR-9, San Francisco, CA 94105. You may also submit comments and information by fax at 415.947.3549 or by e-mail at albright.david@epa.gov.

FOR FURTHER INFORMATION CONTACT: David Albright, at albright.david@epa.gov, or 415.972.3971.

SUPPLEMENTARY INFORMATION: For supplementary information about this matter, please refer to the November 2, 2005 Federal Register document (70 FR 66402). If you have questions, please contact the person listed above under FOR FURTHER INFORMATION CONTACT.

Dated: December 6, 2005.
Laura Yoshii,
Acting Regional Administrator, Region IX.

[FR Doc. 05-24073 Filed 12-14-05; 8:45 am]

BILLING CODE 6560-50-P